DEPARTMENT OF STATE

[Public Notice No. 3385]

Shipping Coordinating Committee Subcommittee on Ocean Dumping; Notice of Meeting

The Subcommittee on Ocean Dumping of the Shipping Coordinating Committee will hold an open meeting on September 11, 2000 from 10 am to Noon to obtain public comment on the issues to be addressed at the September 18-22, 2000 Twenty-second Consultative Meeting of Contracting Parties to the London Convention, which is the global international treaty regulating ocean dumping. The meeting will also review the results of the Twenty-third Scientific Group Meeting of the London Convention held in May 2000.

The meeting will be held at the Environmental Protection Agency offices located at the Fairchild Building, 499 South Capitol Street SW, Washington, DC 20003, Room 809. Interested members of the public are invited to attend, up to the capacity of the room.

For further information, please contact Mr. David Redford, Acting Chief, Marine Pollution Control Branch telephone (202) 260-1952.

Dated: August 15, 2000.
Stephen M. Miller,
Executive Secretary, Shipping Coordinating Committee, Department of State.

[FR Doc. 00-21235 Filed 8-18-00; 8:45 am]

BILLING CODE 4710-10-P